DEPARTMENT OF ENERGY

Federal Energy Regulatory Commission

Combined Notice of Filings #1

Take notice that the Commission received the following electric rate filings:

Docket Numbers: ER10-2437-003.

Applicants: Arizona Public Service Company.

Description: Second Supplement to December 22, 2015 Triennial Market Power Update [SIL Study] of Arizona Public Service Company.

Filed Date: 8/15/16.

Accession Number: 20160815-5226.

Comments Due: 5 p.m. ET 9/6/16.

Docket Numbers: ER15-943-003.

Applicants: Midcontinent Independent System Operator, Inc.

Description: Report Filing: 2016-08-04_SA 6502 Refund Report related to Edwards SSR Settlement to be effective N/A.

Filed Date: 8/4/16.

Accession Number: 20160804-5040.

Comments Due: 5 p.m. ET 9/6/16.

Docket Numbers: ER16-2414-000.

Applicants: PJM Interconnection, L.L.C.

Description: Section 205(d) Rate Filing: Service Agreement Nos. 4511 and 4512, Queue Positions AB1-127 and AB1-128 to be effective 7/13/2016.

Filed Date: 8/12/16.

Accession Number: 20160812-5145.

Comments Due: 5 p.m. ET 9/2/16.

Docket Numbers: ER16-2415-000.

Applicants: ISO New England Inc.

Description: ISO New England Inc. submits Second Quarter 2016 Capital Budget Report.

Filed Date: 8/12/16.

Accession Number: 20160812-5153.

Comments Due: 5 p.m. ET 9/2/16.

Docket Numbers: ER16-2416-000.

Applicants: Central Maine Power Company.

Description: Section 205(d) Rate Filing: Amended CSIA with Brookfield White Pine Hydro LLC to be effective 8/1/2016.

Filed Date: 8/12/16.

Accession Number: 20160812-5160.

Comments Due: 5 p.m. ET 9/2/16.

Docket Numbers: ER16-2417-000.

Applicants: Midcontinent Independent System Operator, Inc.

Description: Compliance filing: 2016-08-12_Removal of MVP Pricing Limitation to PJM (ER10-1791) to be effective 7/13/2016.

Filed Date: 8/12/16.

Accession Number: 20160812-5197.

Comments Due: 5 p.m. ET 9/2/16.

Docket Numbers: ER16-2418-000.

Applicants: Southern California Edison Company.

Description: Section 205(d) Rate Filing: Letter Agreement ACES Project to be effective 8/15/2016.

Filed Date: 8/12/16.

Accession Number: 20160812-5202.

Comments Due: 5 p.m. ET 9/2/16.

Docket Numbers: ER16-2419-000.

Applicants: Duke Energy Progress, LLC, Duke Energy Florida, LLC, Duke Energy Carolinas, LLC.

Description: Compliance filing: Order No. 828 Compliance Filing to be effective 10/14/2016.

Filed Date: 8/15/16.

Accession Number: 20160815-5144.

Comments Due: 5 p.m. ET 9/6/16.

Docket Numbers: ER16-2421-000.

Applicants: PJM Interconnection, L.L.C.

Description: Section 205(d) Rate Filing: Amendment to Original WMPA SA No. 3772, Queue No. Y2-088 to be effective 2/20/2014.

Filed Date: 8/15/16.

Accession Number: 20160815-5189.

Comments Due: 5 p.m. ET 9/6/16.

Docket Numbers: ER16-2422-000.

Applicants: Illinois Power Generating Company.

Description: Section 205(d) Rate Filing: Revised Rate Schedule and Request for Expedited Treatment to be effective 9/15/2016.

Filed Date: 8/15/16.

Accession Number: 20160815-5200.

Comments Due: 5 p.m. ET 9/6/16.

Docket Numbers: ER16-2423-000.

Applicants: Wisconsin Power and Light Company.

Description: Section 205(d) Rate Filing: City of Sheboygan Falls Wholesale Service Agreement to be effective 10/14/2016.

Filed Date: 8/15/16.

Accession Number: 20160815-5225.

Comments Due: 5 p.m. ET 9/6/16.

Docket Numbers: ER16-2424-000.

Applicants: Alta Wind VIII, LLC.

Description: Section 205(d) Rate Filing: Clarification to MBR Change in Status for Alta Wind VIII LLC to be effective 6/29/2016.

Filed Date: 8/15/16.

Accession Number: 20160815-5247.

Comments Due: 5 p.m. ET 9/6/16.

Take notice that the Commission received the following electric securities filings:

Docket Numbers: ES16-51-000.

Applicants: South Carolina Electric & Gas Company, South Carolina Generating Company, Inc.

Description: Application for Authorization under FPA Section 204 for South Carolina Electric & Gas Company to Issue Short-Term Debt Securities and to Assume Liabilities as Guarantor and for South Carolina Generating Company, Inc.

Filed Date: 8/12/16.

Accession Number: 20160812-5213.

Comments Due: 5 p.m. ET 9/2/16.

Take notice that the Commission received the following electric reliability filings:

Docket Numbers: RD16-9-000.

Applicants: North American Electric Reliability Corp.

Description: Petition of the North American Electric Reliability Corporation for Approval of Proposed Reliability Standard COM-001-3.

Filed Date: 8/15/16.

Accession Number: 20160815-5245.

Comments Due: 5 p.m. ET 9/14/16.

Take notice that the Commission received the following electric reliability filings:

Docket Numbers: RR16-5-000.

Applicants: North American Electric Reliability Corporation.

Description: Petition of North American Electric Reliability Corporation for Approval of Proposed Rules of Procedure Revisions.

Filed Date: 8/15/16.

Accession Number: 20160815-5180.

Comments Due: 5 p.m. ET 9/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2016.
Kimberly D. Bose,
Secretary.

[FR Doc. 2016-19901 Filed 8-19-16; 8:45 am]

BILLING CODE 6717-01-P